DEPARTMENT OF ENERGY

Federal Energy Regulatory Commission

Combined Notice of Filings

Take notice that the Commission has received the following Natural Gas Pipeline Rate and Refund Report filings:

Docket Numbers: RP21-980-001.

Applicants: Whiting Oil and Gas Corporation, Fundare Resources Operating Company, LLC.

Description: Supplement to Joint Petition For Temporary Waiver, et al. of Whiting Oil and Gas Corporation, et al.

Filed Date: 8/5/21.

Accession Number: 20210805-5153.

Comments Due: 5 p.m. ET 8/12/21.

Docket Numbers: RP21-1018-000.

Applicants: Florida Gas Transmission Company, LLC.

Description: § 4(d) Rate Filing: Remove GT&C Section 26 Reservation Surcharge to be effective 9/4/2021.

Filed Date: 8/4/21.

Accession Number: 20210804-5014.

Comments Due: 5 p.m. ET 8/16/21.

Docket Numbers: RP21-1019-000.

Applicants: Gulf South Pipeline Company, LLC.

Description: § 4(d) Rate Filing: Remove Expired Agmts eff 8-5-2021 to be effective 8/5/2021.

Filed Date: 8/5/21.

Accession Number: 20210805-5029.

Comments Due: 5 p.m. ET 8/17/21.

Docket Numbers: RP21-1020-000.

Applicants: Alliance Pipeline L.P.

Description: § 4(d) Rate Filing: Sheet No. 206 Clean Up Filing to be effective 7/23/2021.

Filed Date: 8/5/21.

Accession Number: 20210805-5073.

Comments Due: 5 p.m. ET 8/17/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 6, 2021.
Debbie-Anne A. Reese,
Deputy Secretary.

[FR Doc. 2021-17210 Filed 8-11-21; 8:45 am]

BILLING CODE 6717-01-P